FEDERAL COMMUNICATIONS COMMISSION

47 CFR Part 73

[DA No. 00-2425; MM Docket No. 00-54; RM-9835 & RM-9907]

Radio Broadcasting Services; Mount Pleasant and Bogata, TX

AGENCY: Federal Communications Commission.

ACTION: Final rule.

SUMMARY: Leo Ashcraft proposed the allotment of Channel 263A at Mount Pleasant, Texas, as that community's first local broadcast service. See 65 FR 17618, April 4, 2000. In response to a counterproposal filed by Bogata Broadcasting Company we will allot Channel 263A at Bogata, Texas, as a first local service, with no allotment being made at Mount Pleasant because no valid continuing expression of interest was filed for a channel at Mount Pleasant. The coordinates for Channel 263A at Bogata, Texas, are 33-23-50 and 95-11-42. A filing window for Channel 263A at Bogata will not be opened at this time. Instead, the issue of opening a filing window for this channel will be addressed by the Commission in a subsequent order.

DATES: Effective December 12, 2000.

FOR FURTHER INFORMATION CONTACT: Kathleen Scheuerle, Mass Media Bureau, (202) 418-2180.

SUPPLEMENTARY INFORMATION: This is a summary of the Commission's Report and Order, MM Docket No. 00-54, adopted October 18, 2000, and released October 27, 2000. The full text of this Commission decision is available for inspection and copying during normal business hours in the Commission's Reference Center, 445 12th Street, SW, Washington, DC. The complete text of this decision may also be purchased from the Commission's copy contractors, International Transcription Services, Inc., 1231 20th Street, NW., Washington, DC 20036, (202) 857-3800, facsimile (202) 857-3805.

List of Subjects in 47 CFR Part 73

Radio broadcasting.

Part 73 of title 47 of the Code of Federal Regulations is amended as follows:

47 CFR PART 73—RADIO BROADCAST SERVICES

1. The authority citation for part 73 continues to read as follows:

Authority: 47 U.S.C. 154, 303, 334, and 336.

§ 73.202 [Amended]

2. Section 73.202(b), the Table of FM Allotments under Texas, is amended by adding Bogata, Channel 263A.

Federal Communications Commission.
John A. Karousos,
Chief, Allocations Branch, Policy and Rules Division, Mass Media Bureau.

[FR Doc. 00-28877 Filed 11-9-00; 8:45 am]

BILLING CODE 6712-01-U